ADMINISTRATIVE CONFERENCE OF THE UNITED STATES

Committee on Rulemaking

ACTION: Notice of public meeting.

SUMMARY: Notice is hereby given of a public meeting of the Committee on Rulemaking of the Assembly of the Administrative Conference of the United States. The committee will meet to discuss a recommendation, concerning agency innovations in e-Rulemaking, for consideration by the full Conference. Complete details regarding the committee meeting, a related research report, how to attend (including information about remote access and obtaining special accommodations for persons with disabilities), and how to submit comments to the committee can be found in the “Research” section of the Conference's Web site, at http://www.@acus.gov. Click on “Research,” then on “Conference Projects,” and then on “Agency Innovations in e-Rulemaking.”

Comments may be submitted by e-mail to Comments@acus.gov, with “Committee on Rulemaking” in the subject line, or by postal mail to “Committee on Rulemaking Comments” at the address given below. To be guaranteed consideration, comments must be received by Friday, August 19, 2011.

ADDRESSES: The meeting will be held at 1120 20th Street, NW., Suite 706 South, Washington, DC 20036.

FOR FURTHER INFORMATION CONTACT: Emily Schleicher Bremer, Designated Federal Officer, Administrative Conference of the United States, 1120 20th Street, NW., Suite 706 South, Washington, DC 20036; Telephone 202-480-2080.

SUPPLEMENTARY INFORMATION: The Committee on Rulemaking will meet to consider a draft recommendation concerning agency innovations in e-Rulemaking. The committee will discuss topics such as using agency Web sites and social media to promote participation in rulemaking proceedings and improving access for non-English speakers, persons with disabilities, and persons with low-bandwith Internet.

DATES: Wednesday, August 24, 2011, from 2 p.m. to 5 p.m.

Designated Federal Officer: Emily Schleicher Bremer.

Dated: August 2, 2011.
Jonathan R. Siegel,
Director of Research & Policy.

[FR Doc. 2011-19956 Filed 8-5-11; 8:45 am]

BILLING CODE 6110-01-P